DEPARTMENT OF ENERGY

Federal Energy Regulatory Commission

Combined Notice of Filings #1

Take notice that the Commission received the following electric rate filings:

Docket Numbers: ER10-1437-008.

Applicants: Tampa Electric Company.

Description: Notice of Change in Status of Tampa Electric Company.

Filed Date: 10/26/18.

Accession Number: 20181026-5100.

Comments Due: 5 p.m. ET 11/16/18.

Docket Numbers: ER10-2607-004; ER10-2626-003.

Applicants: Old Dominion Electric Cooperative, TEC Trading, Inc.

Description: Supplement to December 23, 2018 Updated Market Power Analyses in Northeast Region of the ODEC Entities, et al.

Filed Date: 10/25/18.

Accession Number: 20181025-5191.

Comments Due: 5 p.m. ET 11/15/18.

Docket Numbers: ER18-1945-002.

Applicants: Alabama Power Company.

Description: Tariff Amendment: Amendment to Pending Amendment of Southern's Tariff Vol. 4 to be effective 12/31/9998.

Filed Date: 10/26/18.

Accession Number: 20181026-5137.

Comments Due: 5 p.m. ET 11/16/18.

Docket Numbers: ER18-2320-001.

Applicants: Entergy Texas, Inc.

Description: Tariff Amendment: ETI-ETEC Wholesale Distribution Service Agreement to be effective 8/1/2018.

Filed Date: 10/25/18.

Accession Number: 20181025-5056.

Comments Due: 5 p.m. ET 11/15/18.

Docket Numbers: ER18-2353-001.

Applicants: Midcontinent Independent System Operator, Inc.

Description: Tariff Amendment: 2018-10-25_Amendment to Enhance Price Volatility Make-Whole Payment Processes to be effective 12/1/2018.

Filed Date: 10/25/18.

Accession Number: 20181025-5091.

Comments Due: 5 p.m. ET 11/15/18.

Docket Numbers: ER18-2518-001.

Applicants: Black Hills Electric Generation, LLC.

Description: Tariff Amendment: Supplement to Petition for Acceptance of Market-Based Rate Tariff to be effective 11/28/2018.

Filed Date: 10/26/18.

Accession Number: 20181026-5134.

Comments Due: 5 p.m. ET 11/16/18.

Docket Numbers: ER19-105-001.

Applicants: PJM Interconnection, L.L.C.

Description: Tariff Amendment: Amendment to Extend Time for Action: Periodic Review of VRRs to be effective 1/17/2019.

Filed Date: 10/26/18.

Accession Number: 20181026-5054.

Comments Due: 5 p.m. ET 11/16/18.

Docket Numbers: ER19-191-000.

Applicants: GridLiance West LLC.

Description: § 205(d) Rate Filing: GridLiance West Regulatory Asset Amortization Filing to be effective 12/25/2018.

Filed Date: 10/25/18.

Accession Number: 20181025-5162.

Comments Due: 5 p.m. ET 11/15/18.

Docket Numbers: ER19-192-000.

Applicants: Great Plains Windpark Legacy, LLC.

Description: § 205(d) Rate Filing: Notice of Succession to be effective 10/26/2018.

Filed Date: 10/25/18.

Accession Number: 20181025-5172.

Comments Due: 5 p.m. ET 11/15/18.

Docket Numbers: ER19-193-000.

Applicants: Mid-Atlantic Interstate Transmission, LLC.

Description: Mid-Atlantic Interstate Transmission, LLC submits tariff filing per 35.13(a)(2)(iii: Revised Interconnection Agreement SA No. 4562 [Pro Forma sheets] to be effective 10/26/2018.

Filed Date: 10/25/18.

Accession Number: 20181025-5177.

Comments Due: 5 p.m. ET 11/15/18.

Docket Numbers: ER19-194-000.

Applicants: Midwest Energy, Inc.

Description: Petition for Temporary Waiver of Formula Rate Protocols of Midwest Energy, Inc.

Filed Date: 10/25/18.

Accession Number: 20181025-5192.

Comments Due: 5 p.m. ET 11/15/18.

Docket Numbers: ER19-195-000.

Applicants: PJM Interconnection, L.L.C.

Description: Tariff Cancellation: Notice of Cancellation of WMPA SA No. 4913; Queue No. AC2-113 to be effective 12/7/2018.

Filed Date: 10/26/18.

Accession Number: 20181026-5030.

Comments Due: 5 p.m. ET 11/16/18.

Docket Numbers: ER19-196-000.

Applicants: California Independent System Operator Corporation.

Description: § 205(d) Rate Filing: 2018-10-26 Transferred Frequency Response Agreement with Chelan County PUD to be effective 12/1/2018.

Filed Date: 10/26/18.

Accession Number: 20181026-5047.

Comments Due: 5 p.m. ET 11/16/18.

Docket Numbers: ER19-197-000.

Applicants: AEP Texas Inc.

Description: § 205(d) Rate Filing: AEPTX-Western Farmers Electric Cooperative Amended TSA to be effective 10/1/2018.

Filed Date: 10/26/18.

Accession Number: 20181026-5075.

Comments Due: 5 p.m. ET 11/16/18.

Docket Numbers: ER19-198-000.

Applicants: Arizona Public Service Company.

Description: Compliance filing: Service Agreement No. 218, Amendment No. 1 to be effective 7/1/2018.

Filed Date: 10/26/18.

Accession Number: 20181026-5101.

Comments Due: 5 p.m. ET 11/16/18.

Docket Numbers: ER19-199-000.

Applicants: Midcontinent Independent System Operator, Inc.

Description: § 205(d) Rate Filing: 2018-10-26_Improving thresholds for Uninstruction Deviation to be effective 5/1/2019.

Filed Date: 10/26/18.

Accession Number: 20181026-5116.

Comments Due: 5 p.m. ET 11/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2018.
Nathaniel J. Davis, Sr.,
Deputy Secretary.

[FR Doc. 2018-24550 Filed 11-8-18; 8:45 am]

BILLING CODE 6717-01-P